DEPARTMENT OF ENERGY

Federal Energy Regulatory Commission

Combined Notice of Filings #1

Take notice that the Commission received the following electric corporate filings:

Docket Numbers: EC24-27-000.

Applicants: Evergy Missouri West, Inc., Dogwood Energy LLC.

Description: Joint Application for Authorization Under Section 203 of the Federal Power Act of Evergy Missouri West, Inc.

Filed Date: 12/18/23.

Accession Number: 20231218-5274.

Comment Date: 5 p.m. ET 1/8/24.

Take notice that the Commission received the following exempt wholesale generator filings:

Docket Numbers: EG24-59-000.

Applicants: Yellow Pine Solar II, LLC.

Description: Yellow Pine Solar II, LLC submits Notice of Self-Certification of Exempt Wholesale Generator Status.

Filed Date: 12/19/23.

Accession Number: 20231219-5146.

Comment Date: 5 p.m. ET 1/9/24.

Take notice that the Commission received the following electric rate filings:

Docket Numbers: ER19-1217-005.

Applicants: Montana-Dakota Utilities Co.

Description: Triennial Market Power Analysis for Central Region of Montana-Dakota Utilities Co.

Filed Date: 12/15/23.

Accession Number: 20231215-5329.

Comment Date: 5 p.m. ET 2/13/24.

Docket Numbers: ER22-2185-003.

Applicants: Black Hills Colorado Electric, LLC.

Description: Compliance filing: Compliance Filing of Tariff Sheets to Implement Formula Rate Settlement to be effective 9/1/2022.

Filed Date: 12/18/23.

Accession Number: 20231218-5254.

Comment Date: 5 p.m. ET 1/8/24.

Docket Numbers: ER24-226-001.

Applicants: Evergy Missouri West, Inc., Evergy Metro, Inc., Southwest Power Pool, Inc.

Description: Tariff Amendment: Southwest Power Pool, Inc. submits tariff filing per 35.17(b): Amended Filing—Revisions to the Formula Rate of Evergy Companies to be effective 12/27/2023.

Filed Date: 12/18/23.

Accession Number: 20231218-5249.

Comment Date: 5 p.m. ET 1/8/24.

Docket Numbers: ER24-678-001.

Applicants: PJM Interconnection, L.L.C.

Description: Tariff Amendment: Amendment of Cancellation of WMPA, SA No. 6228; AF2-057 in Docket ER24-678-000 to be effective 2/14/2024.

Filed Date: 12/18/23.

Accession Number: 20231218-5261.

Comment Date: 5 p.m. ET 1/8/24.

Docket Numbers: ER24-697-000.

Applicants: Westlands Solar Blue (OZ) Owner, LLC.

Description: Baseline eTariff Filing: Solar Blue Application for Market-Based Rate Authorization to be effective 12/19/2023.

Filed Date: 12/18/23.

Accession Number: 20231218-5272.

Comment Date: 5 p.m. ET 1/8/24.

Docket Numbers: ER24-698-000.

Applicants: Castanea Project, LLC.

Description: Baseline eTariff Filing: Castanea Application for Market-Based Rate Authorization to be effective 12/19/2023.

Filed Date: 12/19/23.

Accession Number: 20231219-5002.

Comment Date: 5 p.m. ET 1/9/24.

Docket Numbers: ER24-699-000.

Applicants: Southwest Power Pool, Inc.

Description: § 205(d) Rate Filing: 4200 NextEra Energy Resources Surplus Interconnection GIA to be effective 2/17/2024.

Filed Date: 12/19/23.

Accession Number: 20231219-5004.

Comment Date: 5 p.m. ET 1/9/24.

Docket Numbers: ER24-700-000.

Applicants: Southwest Power Pool, Inc.

Description: § 205(d) Rate Filing: 4201 Wildcat Ranch Energy Storage Surplus InterconnectionGIA to be effective 2/17/2024.

Filed Date: 12/19/23.

Accession Number: 20231219-5009.

Comment Date: 5 p.m. ET 1/9/24.

Docket Numbers: ER24-701-000.

Applicants: New York Independent System Operator, Inc.

Description: § 205(d) Rate Filing: NYISO 205: Proposed ICAP Demand Curve Enhancements re: Seasonal Reference Points to be effective 2/20/2024.

Filed Date: 12/19/23.

Accession Number: 20231219-5063.

Comment Date: 5 p.m. ET 1/9/24.

Docket Numbers: ER24-702-000.

Applicants: Duke Energy Indiana, LLC.

Description: § 205(d) Rate Filing: DEI-Blocke RS No. 283 Facilities Agmt to be effective 2/18/2024.

Filed Date: 12/19/23.

Accession Number: 20231219-5102.

Comment Date: 5 p.m. ET 1/9/24.

Docket Numbers: ER24-703-000.

Applicants: Virginia Electric and Power Company, PJM Interconnection, L.L.C.

Description: § 205(d) Rate Filing: Virginia Electric and Power Company submits tariff filing per 35.13(a)(2)(iii: VEPCO submits One WDSA, SA No. 7142 to be effective 9/27/2023.

Filed Date: 12/19/23.

Accession Number: 20231219-5109.

Comment Date: 5 p.m. ET 1/9/24.

Docket Numbers: ER24-704-000.

Applicants: Alabama Power Company, Georgia Power Company, Mississippi Power Company.

Description: Tariff Amendment: Alabama Power Company submits tariff filing per 35.15: Putney Solar (Solar & Battery) LGIA Termination Filing to be effective 12/19/2023.

Filed Date: 12/19/23.

Accession Number: 20231219-5125.

Comment Date: 5 p.m. ET 1/9/24.

Docket Numbers: ER24-705-000.

Applicants: Bazinga, LLC.

Description: Baseline eTariff Filing: Baseline new to be effective 12/20/2023.

Filed Date: 12/19/23.

Accession Number: 20231219-5193.

Comment Date: 5 p.m. ET 1/9/24.

Take notice that the Commission received the following electric reliability filings:

Docket Numbers: RD24-2-000.

Applicants: North American Electric Reliability Corporation, Western Electricity Coordinating Council.

Description: Joint Petition of the North American Electric Reliability Corporation et. al. for Approval of Proposed Regional Reliability Standard VAR-501-WECC-4.

Filed Date: 12/15/23.

Accession Number: 20231215-5332.

Comment Date: 5 p.m. ET 1/18/24.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 19, 2023.
Debbie-Anne A. Reese,
Deputy Secretary.

[FR Doc. 2023-28442 Filed 12-22-23; 8:45 am]

BILLING CODE 6717-01-P